DEPARTMENT OF TRANSPORTATION

Federal Railroad Administration

Tier 1 Environmental Impact Statement for the Los Angeles to San Luis Obispo (LOSSAN North) Rail Corridor Improvements Studies: Los Angeles, Ventura, Santa Barbara, San Luis Obispo counties, California

AGENCY: Federal Railroad Administration (FRA), Department of Transportation (DOT).

ACTION: Notice of intent to prepare an environmental impact statement.

SUMMARY: FRA is issuing this notice to advise the public that FRA with the California Department of Transportation (Caltrans) will jointly prepare a Tier-1 environmental impact statement (EIS) and a program environmental impact report (EIR) for rail corridor improvements to the Los Angeles to San Luis Obispo (LOSSAN North) rail corridor (LOSSAN North Program). FRA is also issuing this notice to solicit public and agency input into the development of the scope of the EIR/EIS and to advise the public that outreach activities conducted by Caltrans and its representatives will be considered in the preparation of the EIR/EIS. The objective of the Tier-1 EIR/EIS is to evaluate alternatives and present thorough environmental analysis to help make corridor level decisions regarding the level of intercity passenger rail service provided in the corridor, including variations in train frequency, trip time, and on-time performance.

DATES: Locations, dates, and start and end times for public meetings involving the EIS are listed in the SUPPLEMENTARY INFORMATION section of this notice.

FOR FURTHER INFORMATION CONTACT: For further information regarding the Tier-1 environmental review, please contact: Ms. Lea Simpson, Manager, California Department of Transportation, Division of Rail, MS 74, PO Box 942874, Sacramento, CA 94274-0001, (telephone 916-654-7184) or Ms. Melissa Elefante DuMond, Environmental Protection Specialist, Office of Railroad Policy and Development, Federal Railroad Administration, 1200 New Jersey Avenue, SE. (Mail Stop 20), Washington, DC 20590, (telephone 202-493-6366).

SUPPLEMENTARY INFORMATION:

Purpose and Need

FRA and Caltrans have determined that improvements to the existing LOSSAN North rail corridor are necessary to meet the expected growth in population and resulting increases in intercity travel demand between Los Angeles and San Luis Obispo. As a result of this growth in travel demand, their travel delays from the growing congestion on California's highways and at airports will increase. In terms of passenger volume, the LOSSAN corridor is the second-busiest intercity rail corridor in the nation, after the Northeast Corridor connecting Washington DC, New York, and Boston. However, rail capacity constraints result in rail congestion and travel delays which is compounded by delays related to weather conditions, accidents and other factors which collectively result in unreliable rail service. In addition, in some cases rail infrastructure has not been upgraded or improved in over one hundred years. Goals of the project underlying the environmental review include increasing the cost-effectiveness of State-supported intercity passenger rail systems; increasing the rail capacity on existing routes; reduction in running times to attract additional riders and to provide a more attractive service; and improvement to the safety of State-supported intercity rail service.

Rail Services Along Corridor

Amtrak uses the LOSSAN rail corridor for the Pacific Surfliner Service between Los Angeles and San Luis Obispo that is supported by Caltrans. Amtrak's Coast Starlight (service between Los Angeles, the Bay Area, and Portland/Seattle) also operates on the corridor. The Southern California Regional Rail Authority also uses the LOSSAN rail corridor for their Metrolink commuter rail service between Los Angeles and Ventura. Union Pacific operates freight service along the corridor.

Environmental Review Process

The EIS/EIR will be developed in accordance with the National Environmental Policy Act of 1969 (NEPA), 42 U.S.C. 4321 and the Council on Environmental Quality (CEQ) regulations (40 CFR part 1500 et seq.) implementing NEPA; the California Environmental Quality Act (CEQA), Division 13, Public Resources Code; and FRA's Procedures for Considering Environmental Impacts (64 FR 28545; May 26, 1999). The FRA and the Caltrans will use a tiered process, as provided for in 40 CFR 1508.28 and in accordance with FRA Procedures for the completion of the environmental review of the LOSSAN North Program.

“Tiering” is a staged environmental review process often applied to environmental reviews for complex transportation projects. The initial phase (Tier-1 EIS) of this process will address broad questions and likely environmental effects for the entire corridor including, but not limited to, the type of service(s) being proposed, including cities and stations served, route alternatives, service levels, types of operations (speed, electric, or diesel powered), ridership projections, major infrastructure components, and identification of major terminal area or facility capacity constraints. Subsequent phases or tiers will analyze, at a greater level of detail, narrower site-specific proposals based on any decisions made in the Tier-1 EIR/EIS.

Alternatives

Alternatives to be evaluated and analyzed in the Program EIR/EIS include a no-action (No-Project or No-Build) scenario and an alternative with multiple options that considers the construction of incremental, independent passenger rail improvements in the LOSSAN North rail corridor. Possible environmental impacts include displacement of commercial and residential properties; disproportionate impacts to minority and low-income populations; community and neighborhood disruption; increased noise and vibration along the rail corridor; traffic impacts associated with stations; effects to historic properties or archaeological sites; impacts to parks and recreation resources; visual quality effects; exposure to seismic and flood hazards; impacts to water resources, wetlands, and sensitive biological species and habitat; land use compatibility impacts; energy use; and impacts to agricultural lands.

No-Build Alternative

The no action (No-Project or No-Build) alternative is defined to serve as the baseline for comparison of all alternatives. The No-Build Alternative represents the State's transportation system (highway, air, and rail) as it exists, and as it would exist after completion of programs or projects currently funded or being implemented. The No-Build Alternative would draw upon the following sources of information:

• State Transportation Improvement Program (STIP).

• Regional Transportation Plans (RTPs) for all modes of travel.

• Airport plans.

• Passenger rail plans.

Passenger Rail Alternative and Options

The LOSSAN North Program improvements are incremental, independent rail upgrade projects to the LOSSAN corridor. The Passenger Rail Alternative will have “options” that consider timing of the improvements and logical groupings of improvements that reflect likely funding scenarios. The upgrade of the LOSSAN rail corridor was previously studied in the LOSSAN North Corridor Strategic Plan issued in October 2007, which identified major improvements that could be undertaken between the Los Angeles Union Station and the San Luis Obispo Amtrak Station. The improvements to be discussed in the program EIR/EIS may include:

• Track upgrades.

• Curve realignments.

• Siding extensions and upgrades.

• Addition of second main track.

• Grade separations.

• Station and platform upgrades.

• Track realignments.

• Run-through tracks.

• Pedestrian crossing upgrades.

• Installation of Centralized Traffic Control (CTC).

Scoping and Comments

FRA encourages broad participation in the EIR/EIS process during scoping and subsequent review of the resulting environmental document. Letters describing the proposed project and soliciting comments were sent to appropriate Federal, State, and local agencies, and appropriate railroads. Comments and suggestions are invited from all interested agencies and the public at large to insure the full range of issues related to the proposed action and all reasonable alternatives are addressed and all significant issues are identified. In particular, FRA is interested in determining whether there are areas of environmental concern where there might be the potential for significant impacts identifiable at a program level. Public agencies with jurisdiction are requested to advise the FRA and Caltrans of the applicable permit and environmental review requirements of each agency, and the scope and content of the environmental information that is germane to the agency's statutory responsibilities in connection with the proposed improvements.

Scoping meetings will be advertised locally and are planned for the following major cities along the LOSSAN North rail corridor at the dates and times indicated:

• Los Angeles: January 10, 2011; 5 through 7 PM; Los Angeles County Metropolitan Transportation Authority (Metro) Headquarters—Board Room One Gateway Plaza, Los Angeles, CA.

• Ventura: January 11, 2011; 5 through 7 PM; Camarillo Public Library, 4101 Las Posas Road, Camarillo, CA 93010.

• Santa Barbara: January 12, 2011; 5 through 7 PM; Louise Lowry Davis Center, Lu Gilbert Room, 1232 De La Vina St., Santa Barbara, CA, 93101.

• San Luis Obispo: January 13, 2011; 5 through 7 PM; San Luis Obispo City/County Public Library, Community Room, 995 Palm Street, San Luis Obispo, CA 93401.

Persons interested in providing comments on the scope of the Tier-1 EIR/EIS should do so by February 3, 2011. Comments can be sent in writing to Ms. Melissa Elefante DuMond at the FRA address identified above. Comments may also be addressed to Ms. Lea Simpson of Caltrans at their address identified above. Information regarding the environmental review process and technical studies will be made available through Caltrans' rail services Internet site: http://www.amtrakcalifornia.com/.

Issued in Washington, DC, on December 28, 2010.
Karen Rae,
Deputy Administrator, Federal Railroad Administration.

[FR Doc. 2010-33146 Filed 1-3-11; 8:45 am]

BILLING CODE 4910-06-P